DEPARTMENT OF TRANSPORTATION

Federal Aviation Administration

14 CFR Part 39

[Docket No. FAA-2016-9298; Directorate Identifier 2015-NM-161-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A300 series airplanes. This AD was prompted by an evaluation by the design approval holder (DAH) that indicates a section of the wing and aft fuselage is subject to widespread fatigue damage (WFD). This proposed AD would require an inspection to determine if certain modifications have been done. For airplanes on which the specified modifications have not been done, this proposed AD would require accomplishing those modifications, including doing related investigative and corrective actions if necessary. We are proposing this AD to prevent reduced structural integrity of these airplanes due to the failure of certain structural components.

DATES: We must receive comments on this proposed AD by December 12, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NRPM, contact Airbus SAS, Airworthiness Office-EAW, 1 Rond Point Maurice Bellonte, 31707 Blagnac Cedex, France; telephone: +33 5 61 93 36 96; fax: +33 5 61 93 44 51; email: continued.airworthiness-wb.external@airbus.com; Internet http://www.airbus.com. You may view this referenced service information at the FAA, Transport Airplane Directorate, 1601 Lind Avenue SW., Renton, WA.

Examining the AD Docket

You may examine the AD docket on the Internet at http://www.regulations.gov by searching for and locating Docket No. FAA-2016-9298; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2016-9298; Directorate Identifier 2015-NM-161-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Structural fatigue damage is progressive. It begins as minute cracks, and those cracks grow under the action of repeated stresses. This can happen because of normal operational conditions and design attributes, or because of isolated situations or incidents such as material defects, poor fabrication quality, or corrosion pits, dings, or scratches. Fatigue damage can occur locally, in small areas or structural design details, or globally. Global fatigue damage is general degradation of large areas of structure with similar structural details and stress levels. Multiple-site damage is global damage that occurs in a large structural element such as a single rivet line of a lap splice joining two large skin panels. Global damage can also occur in multiple elements such as adjacent frames or stringers. Multiple-site-damage and multiple-element-damage cracks are typically too small initially to be reliably detected with normal inspection methods. Without intervention, these cracks will grow, and eventually compromise the structural integrity of the airplane, in a condition known as WFD. As an airplane ages, WFD will likely occur, and will certainly occur if the airplane is operated long enough without any intervention.

The FAA's WFD final rule (75 FR 69746, November 15, 2010) became effective on January 14, 2011. The WFD rule requires certain actions to prevent structural failure due to WFD throughout the operational life of certain existing transport category airplanes and all transport category airplanes that will be certificated in the future. For existing and future airplanes subject to the WFD rule, the rule requires that DAHs establish a limit of validity (LOV) of the engineering data that support the structural maintenance program. Operators affected by the WFD rule may not fly an airplane beyond its LOV, unless an extended LOV is approved.

The WFD rule (75 FR 69746, November 15, 2010) does not require identifying and developing maintenance actions if the DAHs can show that such actions are not necessary to prevent WFD before the airplane reaches the LOV. Many LOVs, however, do depend on accomplishment of future maintenance actions. As stated in the WFD rule, any maintenance actions necessary to reach the LOV will be mandated by airworthiness directives through separate rulemaking actions.

In the context of WFD, this action is necessary to enable DAHs to propose LOVs that allow operators the longest operational lives for their airplanes, and still ensure that WFD will not occur. This approach allows for an implementation strategy that provides flexibility to DAHs in determining the timing of service information development (with FAA approval), while providing operators with certainty regarding the LOV applicable to their airplanes.

The European Aviation Safety Agency (EASA), which is the Technical Agent for the Member States of the European Union, has issued EASA Airworthiness Directive AD 2015-0173, dated August 24, 2015 (referred to after this as the Mandatory Continuing Airworthiness Information, or “the MCAI”), to correct an unsafe condition for all Airbus Model A300 series airplanes. The MCAI states:

A widespread fatigue damage (WFD) analysis conducted on A300 aeroplanes identified areas which are susceptible to crack development.

This condition, if not corrected, could affect the structural integrity of the aeroplane.

To address this issue, Airbus developed a modification (mod) to reinforce the structure of the aeroplane.

Airbus issued Service Bulletin (SB) A300-53-0271 to provide instructions for a cold expansion of the foot attachment holes of certain fuselage frames, and DGAC [Direction Générale de l'Aviation Civile] France issued AD F-2004-001 to require this mod [which corresponds with certain requirements in FAA AD 2004-23-20, Amendment 39-13875 (69 FR 68779, November 26, 2004)].

Since that [DGAC] AD was issued, Airbus released twelve other mods with corresponding SBs, to complete the set of inspections and repairs in the frame of the A300 WFD campaign. EASA issued AD 2015-0115 to require ten of these mods through section 3 of ALS [Airworthiness Limitations Section] Part 2, and decision is made to delete section 3 from ALS Part 2.

For the reasons described above, this [EASA] AD retains the requirements of DGAC France AD F-2004-001, which is superseded, and requires implementation of the additional inspection, modification and/or repair actions, as applicable to aeroplane model.

Required actions include an inspection to determine if certain modifications have been done. For airplanes on which the specified modifications have not been done, this proposed AD would require accomplishing those modifications, including doing related investigative and corrective actions if necessary. Depending on airplane configuration, the compliance times for modifying the airplane structure range between 13,300 flight cycles and 48,000 flight cycles since first flight of the airplane,. You may examine the MCAI in the AD docket on the Internet at http://www.regulations.gov by searching for and locating Docket No. FAA-2016-9298.

Related Service Information Under 1 CFR Part 51

Airbus issued the following service information:

• Airbus Service Bulletin A300-53-0239, Revision 02, dated March 6, 2000. This service information describes procedures to modify the longitudinal junction. The modification includes the addition of external doublers and installation of interference fit attachments and related investigative and corrective actions. The related investigative actions are rotary probe inspections for cracking of the fastener holes. The corrective action is repair.

• Airbus Service Bulletin A300-53-0247, Revision 02, dated July 20, 1990. This service information describes procedures to modify the fuselage upper door frame structure, which consists of eddy current inspections of certain structure for cracks, and structural modification or repair.

• Airbus Mandatory Service Bulletin A300-53-0271, Revision 05, dated June 21, 2013. This service information describes procedures to modify the fuselage frame (FR), which includes cold expansion of the fastener holes between FR 41 and FR 54, and related investigative and corrective actions. The related investigative actions including rotary probe inspections for cracking of the fastener holes. The corrective action is repair.

• Airbus Mandatory Service Bulletin A300-53-0366, dated April 7, 2005. This service information describes procedures to modify the fuselage frame, which includes installing an additional external doubler on the fuselage lap joint at fuselage stringers (STGR) 22, left and right, between FR 26 and FR 40.

• Airbus Service Bulletin A300-53-0368, dated April 7, 2005. This service information describes procedures to modify the rear fuselage, which includes installing an additional external doubler on the fuselage lap joint at STGR 51, left and right, between FR 72 and FR 80.

• Airbus Mandatory Service Bulletin A300-53-0369, Revision 03, dated September 1, 2010. This service information describes procedures to modify the rear fuselage, which includes reinforcing the butt joint at FR 72 by installation of an additional external doubler at the butt joint of FR 72 at STGR 14, left and right.

• Airbus Mandatory Service Bulletin A300-53-0373, Revision 03, dated September 1, 2010. This service information describes procedures to modify the rear fuselage, which includes reinforcing the butt joint at FR 65 by installation of an additional external doubler at the butt joint of FR 65 between STGR 13 left and right.

• Airbus Mandatory Service Bulletin A300-53-0374, Revision 04, dated July 5, 2013. This service information describes procedures to modify the rear fuselage, which includes reinforcing the butt joints at FR 55 and FR 58 by installation of additional external doublers without cutout at certain butt joints.

• Airbus Mandatory Service Bulletin A300-53-0375, Revision 01, dated June 24, 2013. This service information describes procedures to modify the forward fuselage, which includes reinforcing the fuselage circumferential butt joint at FR 26 by installation of an additional external doubler at the butt joint of FR 26 between STGR 13 left and STGR 13 right.

• Airbus Mandatory Service Bulletin A300-53-0393, dated September 27, 2013. This service information describes procedures to modify the fuselage frame which includes reinforcing the longitudinal butt joints with additional butt straps at certain fuselage frames and stringers.

• Airbus Mandatory Service Bulletin A300-57-0203, Revision 04, dated February 18, 2015. This service information describes procedures to modify the outer wing, which includes removal of the wing stringer and run-out plate at STGR 19 on the bottom wing skin; replacement of the taper-lok bolts with interference fit parallel bolts; and related investigative and corrective actions. Related investigative actions include detailed visual and high frequency eddy current (HFEC) inspections for cracks and damage in the stringer run-outs; and eddy current inspections for cracks initiating from certain fastener holes. Corrective actions include repair.

• Airbus Mandatory Service Bulletin A300-57-0258, dated September 30, 2014. This service information describes procedures to modify the wing structure, which includes a first oversize of the critical holes on certain wing stringers, and related investigative and corrective actions. Related investigated actions include detailed visual inspections for damage of the top wing skin external surface and the stringer joint; and roto-probe inspections for damage of the fastener holes. Corrective actions include repair.

• Airbus Mandatory Service Bulletin A300-57-0259, dated September 30, 2014. This service information describes procedures to modify the wing structure, which includes a first oversize of the critical holes on certain wing stringers, and related investigative and corrective actions. Related investigated actions include detailed visual inspections for damage of the top wing skin external surface and the stringer joint; and roto-probe inspections for damage of the fastener holes. Corrective actions include repair.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 8 airplanes of U.S. registry.

We also estimate that it will take about 3,291 work-hours per product to comply with the basic requirements of this proposed AD. The average labor rate is $85 per work-hour. Required parts would cost about $142,845 per product. Based on these figures, we estimate the cost of this proposed AD on U.S. operators to be $3,380,640, or $422,580 per product.

In addition, we estimate that any necessary follow-on actions would take about 15 work-hours and require parts costing $10,000, for a cost of $11,275 per product. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new Airworthiness Directive (AD):

Airbus: Docket No. FAA-2016-9298; Directorate Identifier 2015-NM-161-AD.

(a) Comments Due Date

We must receive comments by December 12, 2016.

(b) Affected ADs

This AD affects AD 2004-23-20, Amendment 39-13875 (69 FR 68779, November 26, 2004) (“AD 2004-23-20”).

(c) Applicability

This AD applies to Airbus Model A300 B2-1A, B2-1C, B2K-3C, B2-203, B4-2C, B4-103, and B4-203 airplanes, certificated in any category, all manufacturer serial numbers.

(d) Subject

Air Transport Association (ATA) of America Code 53, Fuselage.

(e) Reason

This AD was prompted by an evaluation by the design approval holder (DAH) that indicates a section of the wing and aft fuselage is subject to widespread fatigue damage (WFD). We are issuing this AD to prevent reduced structural integrity of these airplanes due to the failure of certain structural components.

(f) Compliance

Comply with this AD within the compliance times specified, unless already done.

(g) Verification of Embodied Modifications

Within 4 months after the effective date of this AD, verify whether the Airbus modifications listed in table 1 to paragraphs (g), (h), and (i) of this AD, as applicable to airplane model, have been embodied on the airplane in accordance with the Accomplishment Instructions of the applicable Airbus service bulletin listed in table 1 to paragraphs (g), (h), and (i) of this AD. A review of the airplane maintenance records is acceptable to accomplish the verification required by this paragraph, provided those records can conclusively determine whether the modifications have been embodied.

Table 1 to Paragraphs (g), (h), and (i) of This AD—Airbus Modification and Applicable Service Bulletin
Set | Airbus modification | Applicable airbus service bulletin
Set 1A | 751 | A300-53-0247, Revision 02, dated July 20, 1990.
| 7301 | A300-53-0239, Revision 02, dated March 6, 2000.
| 10326 | A300-57-0203, Revision 04, dated February 18, 2015.
| 12735 | A300-53-0366, dated April 7, 2005.
| 12736 | A300-53-0368, dated April 7, 2005.
| 12737 | A300-53-0369, Revision 03, dated September 1, 2010.
| 12798 | A300-53-0375, Revision 01, dated June 24, 2013.
| 07757 and 12977 | A300-53-0271, Revision 05, dated June 21, 2013.
| 13611 | A300-57-0258, dated September 30, 2014.
| 13692 | A300-53-0393, dated September 27, 2013.
| 13716 | A300-57-0259, dated September 30, 2014.
Set 1B | 12794 | A300-53-0374, Revision 04, dated July 5, 2013.
| 12796 | A300-53-0373, Revision 03, dated September 1, 2010.

(h) Corrective Actions for Modifications Which Have Not Been Embodied

If, during the verification required by paragraph (g) of this AD, it is determined that any modification has not been embodied, do the applicable actions specified in paragraphs (h)(1), (h)(2), and (h)(3) of this AD.

(1) If it is determined that any Airbus modification, specified in the applicable Airbus Service Bulletin, identified in “Set 1A” of table 1 to paragraphs (g), (h), and (i) of this AD is not embodied: Within the applicable compliance time specified in the applicable Airbus Service Bulletin identified in “Set 1A” of table 1 to paragraphs (g), (h), and (i) of this AD, or within 4 months after the effective date of this AD, whichever occurs later, do the applicable actions specified in paragraphs (h)(1)(i) through (h)(1)(xi) of this AD, except as required by paragraph (i) of this AD. Do all applicable related investigative and corrective actions before further flight.

(i) For airplanes on which Airbus Service Bulletin A300-53-0239, Revision 02, dated March 6, 2000, has not been embodied: Modify the longitudinal junction and do all applicable related investigative and corrective actions, in accordance with the Accomplishment Instructions of Airbus Service Bulletin A300-53-0239, Revision 02, dated March 6, 2000.

(ii) For airplanes on which Airbus Service Bulletin A300-53-0247, Revision 02, dated July 20, 1990, has not been embodied: Modify the fuselage upper door frame structure by doing eddy current inspections for cracks of the structure specified in Airbus Service Bulletin A300-53-0247, Revision 02, dated July 20, 1990, and a structural modification or repair, as applicable, in accordance with the Accomplishment Instructions of Airbus Service Bulletin A300-53-0247, Revision 02, dated July 20, 1990.

(iii) For airplanes on which Airbus Mandatory Service Bulletin A300-53-0271, Revision 05, dated June 21, 2013, has not been embodied: Modify the fuselage frame, and do all applicable related investigative and corrective actions, in accordance with the Accomplishment Instructions of Airbus Mandatory Service Bulletin A300-53-0271, Revision 05, dated June 21, 2013.

(iv) For airplanes on which Airbus Mandatory Service Bulletin A300-53-0366, dated April 7, 2005, has not been embodied: Modify the fuselage frame, in accordance with the Accomplishment Instructions of Airbus Mandatory Service Bulletin A300-53-0366, dated April 7, 2005.

(v) For airplanes on which Airbus Service Bulletin A300-53-0368, dated April 7, 2005, has not been embodied: Modify the rear fuselage, in accordance with the Accomplishment Instructions of Airbus Mandatory Service Bulletin A300-53-0366, dated April 7, 2005.

(vi) For airplanes on which Airbus Mandatory Service Bulletin A300-53-0369, Revision 03, dated September 1, 2010, has not been embodied: Modify the rear fuselage, in accordance with the Accomplishment Instructions of Airbus Mandatory Service Bulletin A300-53-0369, Revision 03, dated September 1, 2010.

(vii) For airplanes on which Airbus Mandatory Service Bulletin A300-53-0375, Revision 01, dated June 24, 2013, has not been embodied: Modify the forward fuselage, in accordance with the Accomplishment Instructions of Airbus Mandatory Service Bulletin A300-53-0375, Revision 01, dated June 24, 2013.

(viii) For airplanes on which Airbus Mandatory Service Bulletin A300-53-0393, dated September 27, 2013, has not been embodied: Modify the fuselage frame, in accordance with the Accomplishment Instructions of Airbus Mandatory Service Bulletin A300-53-0393, dated September 27, 2013.

(ix) For airplanes on which Airbus Mandatory Service Bulletin A300-57-0203, Revision 04, dated February 18, 2015, has not been embodied: Modify the outer wing, and do all applicable related investigative and corrective actions, in accordance with the Accomplishment Instructions of Airbus Mandatory Service Bulletin A300-57-0203, Revision 04, dated February 18, 2015.

(x) For airplanes on which Airbus Mandatory Service Bulletin A300-57-0258, dated September 30, 2014, has not been embodied: Modify the wing structure and do all applicable related investigative and corrective actions, in accordance with the Accomplishment Instructions of Airbus Mandatory Service Bulletin A300-57-0258, dated September 30, 2014.

(xi) For airplanes on which Airbus Mandatory Service Bulletin A300-57-0259, dated September 30, 2014, has not been embodied: Modify the wing structure, and do all applicable related investigative and corrective actions, in accordance with the Accomplishment Instructions of Airbus Mandatory Service Bulletin A300-57-0259, dated September 30, 2014.

(2) If it is determined that Airbus Service Bulletin A300-53-0374, Revision 04, dated July 5, 2013 (mod 12794) has not been embodied: Within the compliance time specified in paragraphs (h)(2)(i), (h)(2)(ii), (h)(2)(iii), and (h)(2)(iv) of this AD, as applicable, modify the rear fuselage, in accordance with the Accomplishment Instructions of Airbus Service Bulletin A300-53-0374, Revision 04, dated July 5, 2013, except as required by paragraph (i) of this AD.

(i) For Model A300 B2 and A300 B4-100 airplanes, fuselage frame (FR) 55: Within 31,300 flight cycles since first flight of the airplane, or within 4 months after the effective date of this AD, whichever occurs later.

(ii) For Model A300 B2 and A300 B4-100 airplanes, FR 58: Within 49,700 flight cycles since first flight of the airplane, or within 4 months after the effective date of this AD, whichever occurs later.

(iii) For Model A300 B4-200 airplanes, FR 55: Within 33,600 flight cycles since first flight of the airplane, or within 4 months after the effective date of this AD, whichever occurs later.

(iv) For Model A300 B4-200 airplanes, FR 58: Within 55,800 flight cycles since first flight of the airplane, or within 4 months after the effective date of this AD, whichever occurs later.

(3) If it is determined that Airbus Service Bulletin A300-53-0373, Revision 03, dated September 1, 2010 (mod 12796) has not been embodied: Within the compliance time specified in paragraphs (h)(3)(i), (h)(3)(ii), and (h)(3)(iii) of this AD, as applicable, modify the rear fuselage, in accordance with the Accomplishment Instructions of Airbus Service Bulletin A300-53-0373, Revision 03, dated September 1, 2010, except as required by paragraph (i) of this AD.

(i) For Model A300 B2 airplanes: Within 42,700 flight cycles since first flight of the airplane, or within 4 months after the effective date of this AD, whichever occurs later.

(ii) For Model A300 B4-100 airplanes: Within 41,700 flight cycles since first flight of the airplane, or within 4 months after the effective date of this AD, whichever occurs later.

(iii) For Model A300 B4-200 airplanes: Within 47,900 flight cycles since first flight of the airplane, or within 4 months after the effective date of this AD, whichever occurs later.

(i) Service Information Exception

Where any service information identified in table 1 to paragraphs (g), (h), and (i) of this AD specifies to contact the manufacturer for instructions or solutions, before further flight, repair using a method approved by the Manager, International Branch, ANM-116, Transport Airplane Directorate, FAA; or the European Aviation Safety Agency (EASA); or Airbus's EASA Design Organization Approval (DOA).

(j) Terminating Action for Certain Requirements in AD 2004-23-20

Accomplishing the modification required by paragraph (h)(1)(iii) of this AD terminates the modification required by paragraph (i) of AD 2004-23-20 for that airplane only.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-1405; fax 425-227-2125. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) Refer to Mandatory Continuing Airworthiness Information (MCAI) EASA AD 2015-0173, dated August 24, 2015, for related information. You may examine the MCAI on the Internet at http://www.regulations.gov by searching for and locating Docket No. FAA-2016-9298.

(2) For service information identified in this final rule, contact Airbus SAS, Airworthiness Office-EAW, 1 Rond Point Maurice Bellonte, 31707 Blagnac Cedex, France; telephone: +33 5 61 93 36 96; fax: +33 5 61 93 44 51; email: continued.airworthiness-wb.external@airbus.com; Internet http://www.airbus.com. You may view this service information at the FAA, Transport Airplane Directorate, 1601 Lind Avenue SW., Renton, WA. For information on the availability of this material at the FAA, call 425-227-1221.

Issued in Renton, Washington, on October 13, 2016.
Michael Kaszycki,
Acting Manager, Transport Airplane Directorate, Aircraft Certification Service.

[FR Doc. 2016-25662 Filed 10-25-16; 8:45 am]

BILLING CODE 4910-13-P